SMALL BUSINESS ADMINISTRATION

[Declaration of Disaster #3443]

State of Wyoming; Disaster Loan Areas

Johnson County and the contiguous counties of Big Horn, Campbell, Converse, Natrona, Sheridan and Washakie in the State of Wyoming constitute a disaster area as a result of severe storms and flooding that occurred on August 27 and August 28, 2002. Applications for loans for physical damage as a result of this disaster may be filed until the close of business on November 19, 2002 and for economic injury until the close of business on June 20, 2003 at the address listed below or other locally announced locations: Small Business Administration, Disaster Area 3 Office, 4400 Amon Carter Blvd., Suite 102, Ft. Worth, TX 76155.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 344311 and for economic damage is 9R5900.

(Catalog of Federal Domestic Assistance Program Nos. 59002 and 59008).
Dated: September 20, 2002.
Hector V. Barreto,
Administrator.

[FR Doc. 02-24556 Filed 9-26-02; 8:45 am]

BILLING CODE 8025-01-P